DEPARTMENT OF LABOR

Employment and Training Administration

[TA-W-91,070; TA-W-91,070A; TA-W-91,070B]

LPL Financial LLC, Business Technology Services Including On-Site Leased Workers From Insight Global, LLC, Sogeti, And SPS Providea San Diego, California; LPL FINANCIAL LLC, BUSINESS TECHNOLOGY SERVICES CHARLOTTE, NORTH CAROLINA LPL Financial LLC Business Technology Services Boston, Massachusetts; Amended Certification Regarding Eligibility To Apply for Worker Adjustment Assistance

In accordance with Section 223 of the Trade Act of 1974, as amended (“Act”), 19 U.S.C. 2273, the Department of Labor issued a Certification of Eligibility to Apply for Worker Adjustment Assistance on February 20, 2016, applicable to workers of LPL Financial LLC, Business Technology Services, San Diego, California (TA-W-91,070); LPL Financial LLC, Business Technology Services, Charlotte, North Carolina (TA-W-91,070A); and LPL Financial LLC, Business Technology Services, Boston, Massachusetts (TA-W-91,070B). The Department's notice of determination was published in the Federal Register on March 24, 2016 (Vol. 81 FR 15747).

At the request of a state workforce office, the Department reviewed the certification for workers of the subject firm. The workers were engaged in activities related to the supply of financial services.

The company reports that workers leased from Insight Global, LLC, Sogeti, and SPS Providea were employed on-site at the San Diego, California location of LPL Financial LLC, Business Technology Services (TA-W-91,070). The Department has determined that these workers were sufficiently under the control of the subject firm to be considered leased workers.

Based on these findings, the Department is amending this certification (TA-W-91,070) to include workers leased from Insight Global, LLC, Sogeti, and SPS Providea working on-site at the San Diego, California location of LPL Financial LLC, Business Technology Services.

The amended notice applicable to TA-W-91,070 is hereby issued as follows:

All workers of LPL Financial LLC, Business Technology Services, including on-site leased workers from Insight Global, LLC, Sogeti, and SPS Providea, San Diego, California, who became totally or partially separated from employment on or after October 22, 2014, through February 20, 2018, and all workers in the group threatened with total or partial separation from employment on the date of certification through two years from the date of certification, are eligible to apply for adjustment assistance under Chapter 2 of Title II of the Trade Act of 1974, as amended.

Signed in Washington, DC, this 14th day of June, 2016.
Hope D. Kinglock,
Certifying Officer, Office of Trade Adjustment Assistance.

[FR Doc. 2016-16835 Filed 7-15-16; 8:45 am]

BILLING CODE 4510-FN-P